ENVIRONMENTAL PROTECTION AGENCY

40 CFR Part 180

[OPP-2005-0069; FRL-7729-4]

Inert Ingredients; Proposal to Revoke 34 Pesticide Tolerance Exemptions for 31 Chemicals; Reopening of Comment Period

AGENCY: Environmental Protection Agency (EPA).

ACTION: Proposed rule; reopening of comment period.

SUMMARY: This document reopens the public comment period of EPA's proposal to revoke 34 exemptions from the requirement of a tolerance that are associated with 31 inert ingredients because, according to Agency records, these substances are no longer contained in active Federal Insecticide, Fungicide, and Rodenticide Act (FIFRA) pesticide product registrations (70 FR 31401, June 1, 2005).

DATES: Comments, identified by the docket identification (ID) number OPP-2005-0069, must be received on or before August 31, 2005.

ADDRESSES: Follow the detailed instructions as provided under ADDRESSES in the Federal Register document of June 1, 2005.

FOR FURTHER INFORMATION CONTACT: Karen Angulo, Registration Division (7505C), Office of Pesticide Programs, Environmental Protection Agency, 1200 Pennsylvania Ave., NW., Washington, DC 20460-0001; telephone number: (703) 306-0404; fax number: (703) 305-0599; e-mail address: angulo.karen@epa.gov.

SUPPLEMENTARY INFORMATION:

I. General Information

A. Does this Action Apply to Me?

The Agency included in the proposed rule a list of those who may be potentially affected by this action. If you have questions regarding the applicability of this action to a particular entity, consult the person listed under FOR FURTHER INFORMATION CONTACT.

B. How Can I Access Electronic Copies of this Document and Other Related Information?

In addition to using EDOCKET (http://www.epa.gov/edocket/), you may access this Federal Register document electronically through the EPA Internet under the “Federal Register” listings at http://www.epa.gov/fedrgstr/. A frequently updated electronic version of 40 CFR part 180 is available at E-CFR Beta Site Two at http://www.gpoaccess.gov/ecfr/.

II. What Action is EPA taking?

This document reopens the public comment period established in the Federal Register issued on June 1, 2005 (FRL-7712-7) (70 FR 31401). In that document, EPA sought comment on a proposed rule revoking 34 exemptions from the requirement of a tolerance that are associated with 31 inert ingredients because, according to Agency records, these substances are no longer contained in active FIFRA pesticide product registrations. EPA is hereby reopening the comment period, which ended on August 1, 2005. Comments are now due on or before August 31, 2005.

III. What is the Agency's Authority for Taking this Action?

The proposed rule is issued pursuant to section 408(d) of FFDCA (21 U.S.C. 346a(d)). Section 408 of FFDCA authorizes the establishment of tolerances, exemptions from the requirement of a tolerance, modifications in tolerances, and revocation of tolerances for residues of pesticide chemicals in or on raw agricultural commodities and processed foods. Without a tolerance or tolerance exemption, food containing pesticide residues is considered to be unsafe and therefore “adulterated” under section 402(a) of FFDCA. If food containing pesticide residues is found to be adulterated, the food may not be distributed in interstate commerce (21 U.S.C. 331(a) and 342 (a)).

IV. Do Any Statutory and Executive Order Reviews Apply to this Action?

No. This action is not a rulemaking, it merely reopens the comment period by which public comments on a proposed rule must be submitted to EPA. For information about the applicability of the regulatory assessment requirements to the proposed rule, please refer to the discussion in Unit IV. of the June 1, 2005 document (70 FR 31403).

List of Subjects in 40 CFR Part 180

Environmental protection, Administrative practice and procedure, Agricultural commodities, Pesticides and pests, Reporting and recordkeeping requirements.

Dated: July 28, 2005.
Lois Rossi,
Director, Registration Division, Office of Pesticide Programs.

[FR Doc. 05-15606 Filed 8-4-05; 9:07 am]

BILLING CODE 6560-50-S